DEPARTMENT OF LABOR

Employment and Training Administration

[TA-W-54,847]

Artex International, Inc., Highland, IL; Notice of Termination of Investigation

Pursuant to section 221 of the Trade Act of 1974, as amended, an investigation was initiated on May 5, 2004, in response to a petition filed by a company official on behalf of workers at Artex International, Inc., Highland, Illinois.

The petitioner has requested that the petition be withdrawn. Consequently, the investigation has been terminated.

Signed in Washington, DC this 25th day of May, 2004.
Richard Church,
Certifying Officer, Division of Trade Adjustment Assistance.

[FR Doc. 04-13372 Filed 6-14-04; 8:45 am]

BILLING CODE 4510-30-P